DEPARTMENT OF COMMERCE

National Oceanic and Atmospheric Administration

RIN 0648-XE02

Endangered and Threatened Species; Initiation of a Status Review for Shortnose Sturgeon

AGENCY: National Marine Fisheries Service (NMFS), National Oceanic and Atmospheric Administration (NOAA), Commerce.

ACTION: Announcement of initiation of status review; request for information; extension of comment period.

SUMMARY: We, NMFS, are extending the deadline for providing information to be used during the status review of shortnose sturgeon (Acipenser brevirostrum) under the Endangered Species Act (ESA). The initial deadline was January 29, 2008. This extension is intended to ensure that the option to submit comments electronically is available for an entire 60-day period.

DATES: Written information regarding the status of, and factors and threats affecting, shortnose sturgeon must be received by March 31, 2008.

ADDRESSES: You may submit comments, identified by 0648-XE02, by any one of the following methods:

• Electronic submissions: Submit all electronic public comments via the Federal eRulemaking Portal: http://www.regulations.gov.

• Fax: 978-281-9394, Attention: Dana Hartley.

• Mail: Information on paper, disk or CD-ROM should be addressed to the Assistant Regional Administrator for Protected Resources, NMFS Northeast Regional Office, One Blackburn Drive, Gloucester, MA 01930.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

FOR FURTHER INFORMATION CONTACT: Dana Hartley, NMFS, Northeast Regional Office (978) 281-9300 ext. 6514; Stephania Bolden, NMFS, Southeast Regional Office (727) 824-5312; or Marta Nammack, NMFS, Office of Protected Resources, (301) 713-1410.

SUPPLEMENTARY INFORMATION: We initiated a status review of the shortnose sturgeon under the ESA on November 30, 2007 (72 FR 67712). Due to temporary difficulty in accessing the electronic Federal eRulemaking Portal at the beginning of the initial comment period, we are extending the public comment period.

Dated: January 24, 2008.
James H. Lecky,
Director, Office of Protected Resources, National Marine Fisheries Service.

[FR Doc. E8-1562 Filed 1-28-08; 8:45 am]

BILLING CODE 3510-22-S